DEPARTMENT OF JUSTICE

[OMB Number 1121—NEW]

Agency Information Collection Activities; Proposed Collection; Comments Requested: Geospatial Capabilities Survey

ACTION: 30-day Notice.

The Department of Justice (DOJ), National Institute of Justice (NIJ), will be submitting the following information collection request to the Office of Management and Budget (OMB) for review and approval in accordance with the Paperwork Reduction Act of 1995. The proposed information collection is published to obtain comments from the public and affected agencies. This proposed information collection was previously published in the Federal Register Volume 78, Number 156, page 49288, on August 13, 2013, allowing for a 60-day comment period.

The purpose of this notice is to allow an additional 30 days for public comment until November 25, 2013 This process is conducted in accordance with 5 CFR 1320.10.

Written comments concerning this information collection should be sent to the Office of Information and Regulatory Affairs, Office of Management and Budget, Attn: DOJ Desk Officer. The best way to ensure your comments are received is to email them to oira_submission@omb.eop.gov or fax them to 202-395-7285. All comments should reference the 8 digit OMB number for the collection or the title of the collection. If you have questions concerning the collection, please call Joel Hunt at 202-616-8111.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Establishment survey and initial approval of collection.

(2) Title of Form/Collection: Geospatial Capabilities Survey.

(3) Agency form number, if any, and the applicable component of the Department of Justice sponsoring the collection: Form Number: None. National Institute of Justice, Office of Justice Programs, Department of Justice.

(4) Affected public who will be asked or required to respond, as well as a brief abstract: Primary: Law enforcement agencies with 100 or more sworn officers. These law enforcement agencies include police departments, sheriff agencies, and state police agencies. This collection is the only effort that provides an ability to determine, in detail, the geospatial tools, techniques, and practices in use currently at large law enforcement agencies. The results of the survey will help NIJ determine how best it can meet the needs and enhance the effectiveness of geospatial capabilities among crime analysts in large police departments through future technology development grants. There is little data on the specific geospatial capabilities of law enforcement agencies and hence little data on which to base technology grant decisions to enhance crime analysis tools and techniques. This survey will update the information gathered in the Use of Computerized Crime Mapping Survey conducted by NIJ in 1997, the last survey on use of computerized crime analysis tools by NIJ and establish the basis for future technology development funding. This collection will also enable Federal, State, and local law enforcement agencies; legislators; researchers; and government agencies to understand the depth, range, and scope of geospatial capabilities currently in use at large law enforcement agencies and develop approaches to extend and enhance these capabilities towards improving policing strategies and public safety through crime solving and prevention.

(5) An estimate of the total number of respondents and the amount of time estimated for an average respondent to respond: The survey will invite all of the 907 law enforcement agencies with 100 or more sworn officers to participate in the survey. The law enforcement agencies will select the personnel most fitting to their organization to provide the responses. The survey is estimated to take one hour to complete.

(6) An estimate of the total public burden (in hours) associated with the collection: There are an estimated 907 total burden hours associated with this collection.

If additional information is required contact: Jerri Murray, Department Clearance Officer, United States Department of Justice, Justice Management Division, Policy and Planning Staff, Two Constitution Square, 145 N Street NE., Room 3W-1407-B, Washington, DC 20530.

Dated: October 22, 2013.
Jerri Murray,
Department Clearance Officer for PRA, U.S. Department of Justice.

[FR Doc. 2013-25160 Filed 10-24-13; 8:45 am]

BILLING CODE 4410-18-P